DEPARTMENT OF HOMELAND SECURITY

Coast Guard

33 CFR Part 117

[Docket No. USCG-2017-0101]

Drawbridge Operation Regulation; Gulf Intracoastal Waterway, Galveston, TX

AGENCY: Coast Guard, DHS.

ACTION: Notice of deviation from drawbridge regulations.

SUMMARY: The Coast Guard has issued a temporary deviation from the operating schedule that governs the Galveston Causeway Railroad Vertical Lift Bridge across the Gulf Intracoastal Waterway (GIWW), mile 357.2 West of Harvey Locks (WHL), at Galveston, Galveston County, Texas. The deviation is necessary to conduct cable lubing and maintenance on the bridge. This deviation allows the bridge to remain in the down position for two four-hour periods, on five consecutive days during day-light hours.

DATES: This deviation is effective from 7 a.m. on March 6, 2017 through 5 p.m. on March 10, 2017.

ADDRESSES: The docket for this deviation, [USCG-2017-0101] is available at http://www.regulations.gov. Type the docket number in the “SEARCH” box and click “SEARCH”. Click on Open Docket Folder on the line associated with this deviation.

FOR FURTHER INFORMATION CONTACT: If you have questions on this temporary deviation, call or email Giselle MacDonald, Bridge Administration Branch, Coast Guard; telephone 504-671-2128, email Giselle.T.MacDonald@uscg.mil.

SUPPLEMENTARY INFORMATION: The Burlington Northern Santa Fe Railway Company requested a temporary deviation from the operating schedule of the Galveston Causeway Railroad Vertical Lift Bridge across the GIWW, mile 357.2 WHL, at Galveston, Galveston County, Texas. This deviation was requested to allow the bridge owner to complete cable lubing and scheduled semi-annual maintenance. This bridge is governed by 33 CFR 117.5.

This deviation allows the vertical lift bridge to remain in the closed-to-navigation position from 7 a.m. to 11 a.m. and from 1 p.m. to 5 p.m., daily, beginning March 6 through March 10, 2017, with a scheduled two-hour opening each day to facilitate passage of vessel traffic from 11 a.m. to 1 p.m., and the bridge will revert to open on demand status at 5 p.m. each day.

The bridge has a vertical clearance of 8.0 feet above mean high water, elevation 3 feet of the North American Vertical Datum of 1988 (NAVD88), in the closed-to-navigation position and 73 feet above mean high water in the open-to-navigation position. Navigation at the site of the bridge consists mainly of tows with barges and some recreational pleasure craft. The bridge can open in case of emergency. No alternate routes are available. The Coast Guard will inform the users of the waterways through our Local and Broadcast Notices to Mariners of the change in operating schedule for the bridge.

In accordance with 33 CFR 117.35(e), the drawbridge must return to its regular operating schedule immediately at the end of the effective period of this temporary deviation. This deviation from the operating regulations is authorized under 33 CFR 117.35.

Dated: February 27, 2017.
Eric A. Washburn,
Bridge Administrator, Eighth Coast Guard District.

[FR Doc. 2017-04125 Filed 3-2-17; 8:45 am]

BILLING CODE 9110-04-P